DEPARTMENT OF HOUSING AND URBAN DEVELOPMENT

[Docket No. FR-4866-N-01]

Notice of Funding Availability (NOFA) for the Enhancement of Neighborhood Networks for Fiscal Year 2002 Revitalization of Severely Distressed Public Housing HOPE VI Revitalization Grants

AGENCY: Office of the Assistant Secretary for Public and Indian Housing, HUD.

ACTION: Notice of Funding Availability (NOFA).

SUMMARY: Purpose of the Program. This NOFA announces the availability of $5 million in Fiscal Year (FY) 2002 funds to expand the Neighborhood Networks program for FY 2002 HOPE VI Revitalization Program grant awards.

Available Funds. A total of $5,000,000 is available for funding which must be obligated in FY 2003.

Eligible Applicants. Eligible applicants are PHAs that are awardees of HOPE VI Revitalization Grants, awarded under the Notice of Funding Availability for Revitalization of Severely Distressed Public Housing HOPE VI Revitalization Grants; Fiscal Year 2002, as published in the Federal Register on July 31, 2002, page 49766 to 49791, Docket Number FR-4768-N-01 (HOPE VI NOFA).

Transfer of Funds. HUD does not have the discretion to transfer funds available through this NOFA to any other program, grant, or area of the applicant's current HOPE VI grant. The funds must be used for the expansion of Neighborhood Networks facilities and services beyond those described in the applicant's HOPE VI NOFA application.

Maximum Funding. Each applicant may request up to $180,000. If funds remain after all grants are awarded, HUD will divide these funds equally among the grant award recipients. This may result in grant amounts larger than $180,000. HUD reserves the right to award a greater or lesser amount of funds than requested, based upon the merit of the submitted grant application.

Deobligation of Funds. HUD may deobligate amounts for the grant if proposed activities are not initiated or completed within the required time after the effective date of the award. The grant agreement will set forth in detail circumstances under which funds may be deobligated and other sanctions imposed.

Number of Applications Permitted. Each applicant may submit only one application.

Joint Applications. Joint applications are not permitted. However, in accordance with Section XI (A)(4), Community and Supportive Services, of the HOPE VI NOFA, the applicant may enter into subgrant agreements with procured developers, other HOPE VI partners, non-profits, or state or local governments to perform the activities proposed under the application.

Grant term. The grant term for funding shall be equal to the term of the applicant's HOPE VI NOFA grant award, regardless of the date of award under this NOFA. Extensions of the grant term shall also be equal to extensions granted under the HOPE VI grant.

Relationship to HOPE VI NOFA. Applications must be in accordance with this HOPE VI Neighborhood Networks NOFA (hereafter referred to as NN NOFA) and the requirements of the HOPE VI NOFA, especially including Section XI (A), Community and Supportive Services. Where inconsistencies exist between the HOPE VI NOFA and this NN NOFA, this NN NOFA shall take precedence, e.g., application due date and maximum pages differ for the NOFAs, rating factors differ for the NOFAs, narrative other than the response to the rating factors is not allowed in the NN NOFA. HUD will only use funds from this NN NOFA to fund grantees of the HOPE VI NOFA, as defined below.

Application Due Date. September 12, 2003.

NN NOFA grant applications are due at HUD Headquarters on or before 5:15 p.m, Eastern Time, 30 calendar days after publication of this NN NOFA in the Federal Register. This application deadline is firm. If you mail or give your application to an overnight carrier on the due date and it does not arrive by 5:15 p.m. on the due date, your application will not be considered. Submit your application early to avoid missing the deadline and being disqualified by unanticipated delays or other related problems.

SUPPLEMENTARY INFORMATION:

I. Application Submission, Application Kits, and Technical Assistance

A. Address for Submitting Applications. Send the original and one copy of your completed application to Mr. Milan Ozdinec, Deputy Assistant Secretary for Public Housing Investments, Department of Housing and Urban Development, 451 Seventh Street, SW., Room 4130, Washington, DC 20410-5000. Please make sure that you note the room number. The correct room number is very important to ensure that your application is not misdirected.

B. Application Submission Requirements. 1. It is strongly recommended that you send your application by an overnight carrier at least two days before the application due date. You may only use DHL, Falcon Carrier, FedEx, United Parcel Service (UPS), or the U.S. Postal Service (USPS), as they are the only carriers accepted into the HUD building without an escort. Delivery by these services must be made during HUD's Headquarters business hours, between 8:45 a.m. and 5:15 p.m., Eastern Time, Monday through Friday. If these companies do not serve your area, you must submit your application via USPS.

2. Hand Carried Applications. Due to new security measures, HUD will no longer accept hand carried applications.

3. HUD will not accept for review and evaluation any applications sent by facsimile (fax). However, facsimile corrections to technical deficiencies will be accepted, as described in Section IX of this NOFA. Also, do not submit resumes or videos.

C. Application Kits. Application kits will not be used with this NOFA.

D. Maximum Length of Application. The maximum length of the rating factor response portion of the application is 20 pages, double-spaced on 8½ x 11 inch paper, with a minimum font size of Times New Roman 12 point. The 20 page maximum does not include forms required by the NN NOFA or supporting documentation, e.g., commitment letters. Applicants should make every effort to submit only what is necessary in terms of supporting documentation. Points will not be added for overall length of the application.

E. Application Format. The only narrative portion of the application is the applicant's response to the rating factors. To ensure proper credit for information applicable to each rating factor, the applicant should include page-number references to the program summary, forms, and supporting documentation. More detail on the application format is located in Section VII of this NN NOFA. Applicants' rating factor responses should be as descriptive as possible, ensuring that every requested item is addressed. Applicants should make sure to include all requested information, according to the instructions of this NN NOFA. This will help ensure a fair and accurate review of your application. Although information from all parts of the application will be taken into account in rating the various factors, if supporting information cannot be found by the reviewer, it cannot be used to support a factor's rating.

F. Technical Assistance. 1. Before the application due date, HUD staff will be available to provide you with general guidance and technical assistance. However, HUD staff is not permitted to assist in preparing your application. If you have a question or need a clarification, you may call, fax, or write Mr. Milan Ozdinec, Deputy Assistant Secretary for Public Housing Investments, Department of Housing and Urban Development, 451 Seventh Street, SW., Room 4130, Washington, DC 20410-5000; telephone (202) 401-8812; fax (202) 401-2370 (these are not toll-free numbers). Persons with hearing and/or speech challenges may access these telephone numbers via text telephone (TTY) by calling the toll-free Federal Information Relay Service at (800) 877-8339.

2. Frequently asked questions, clarifications, and any technical corrections will be posted to the HUD Web site at http://www.hud.gov. In addition, all materials related to this NN NOFA will be posted to the HOPE VI Web site at http://www.hud.gov/hopevi. Any technical corrections will also be published in the Federal Register. Applicants are responsible for monitoring these sites during the application preparation period.

II. Amount Allocated

A total of $5,000,000 is available for funding which must be obligated in FY 2003.

III. Program Description

A. The Notice of Funding Availability for Revitalization of Severely Distressed Public Housing HOPE VI Revitalization Grants; Fiscal Year 2002, as published in the Federal Register on July 31, 2002, page 49766 to 49791, Docket Number FR-4768-N-01 (HOPE VI NOFA) stated that funding for Neighborhood Networks within the HOPE VI program would be offered under a separate Neighborhood Networks NOFA. This is that NOFA.

B. Grantees from the FY 2002 HOPE VI NOFA (defined below) are building Neighborhood Network Centers (NNCs) and/or developing Neighborhood Networks programs as part of their revitalization plan. HOPE VI monies can be used for NNC construction, computer and information technology hardware, staffing, and services.

C. The Neighborhood Networks enhancement grant will provide additional funding to HOPE VI grantees to accelerate and optimize the development of their NNCs as focal points for innovative information technology (IT) programs and supportive service delivery through digital technologies. This Neighborhood Networks NOFA (NN NOFA) provides grants to qualified Public Housing Agencies (PHAs) to (1) Update, maintain, and expand existing Neighborhood Networks/community technology centers (NNCs); or (2) establish new NNCs. Proposed grant activities must build on the foundation created or planned under the application for the HOPE VI NOFA.

D. NNCs provide computer and Internet access to public housing residents and offer a full range of supportive services. Applicants should submit proposals that will: provide job training; reduce welfare dependency; promote economic self-sufficiency; increase the use of computer technology; expand educational opportunities for residents; develop access to health and nutrition information; and meet other needs of residents. A NNC may be existing or new.

1. An existing NNC is:

a. A computer lab, or community technology center already owned and operated by a PHA or nonprofit which serves residents of public housing and which has not received prior Neighborhood Networks funding and therefore is not officially designated a HUD Public and Indian Housing (PIH) NNC; or,

b. A computer lab officially designated a HUD PIH NNC by virtue of PIH funding received prior to award of HOPE VI NOFA funds.

2. A new NNC is one that:

a. is not operational;

b. is in development; and/or,

c. needs funding under this grant program to become fully operational and serve residents of public housing.

E. HUD is looking for applications that implement comprehensive programs within the grant term that will result in improved economic self-sufficiency for public housing residents. HUD is looking for proposals that involve partnerships with organizations that will help supplement and enhance the services grantees will offer to residents.

F. If you are interested in applying for funding under this NN NOFA, please carefully review the application requirements provided below.

IV. Program Requirements

A. Eligible Activities. 1. Programs offered by NNCs shall be designed to meet public housing residents' needs, be geared towards helping residents transition from welfare to work, assist school-age children and youth with homework, provide guidance and preparatory programming to high school students (or other interested residents) for post-secondary education (college or trade schools), offer life-skills and job training for youth, adults, and seniors, and provide health care information and other services as deemed necessary by results obtained from resident surveys. NNCs must be located within the HOPE VI development's locally defined neighborhood, on PHA owned land (including land leased to an ownership entity via a ground-lease) or land leased by the PHA, procured developer, or owner entity on a long-term lease of at least 15 years.

2. Applicants should provide the following staff and services:

a. Increased computer and Internet access for residents during all phases of the HOPE VI revitalization process, including those that are temporarily or permanently relocated through a Housing Choice Voucher (HCV). Innovative approaches that promote computer ownership or home-based computer access in conjunction with NNC access will receive higher scores;

b. Use the NNC as a focus for computer and online access to community and supportive services, whether those services are computer/Internet related or not. An emphasis on access during the relocation process will receive higher scores;

c. The creation of online groups whose purpose is to better connect residents to each other and the HOPE VI revitalization process;

d. NNCs will use computers, software, and Internet connectivity and should provide the following array of supportive services:

i. Hiring of a qualified Neighborhood Networks Coordinator to run the grant program. A qualified Neighborhood Networks Coordinator should have two years of experience running a community technology center. The Neighborhood Networks Coordinator should be hired for the entire term of your grant.

ii. The Neighborhood Networks Coordinator should be responsible for ensuring that the NNC's programs achieve your application's goals and objectives.

iii. In addition, the Neighborhood Networks Coordinator should be responsible for the following activities:

(A) Marketing the program to residents;

(B) Assessing participating residents' needs, interests, skills, and job-readiness;

(C) Assessing participating residents' needs for supportive services, e.g. childcare;

(D) Designing and coordinating grant activities based on residents' needs;

(E) Monitoring the progress of program participants and evaluating the overall success of the program. A portion of grant funds should be reserved to ensure that evaluations can be completed for all participants who received training through this program. For more information on how to measure performance, please see Rating Factor 5.

(F) Coordinating the type of Neighborhood Networks training provided to each participant with other available Community and Supportive Services (CSS) programs in an effort to ensure proper instructional level. Other CSS services should include, but are not limited to:

(1) Life skills training: how to apply for a job; credit worthiness; opening a bank account; balancing a checkbook; creating a weekly spending budget; and contingency planning for child care and transportation;

(2) Real Life Issues: tax forms; voter registration; lease samples; fair housing; car insurance; health insurance; and long-term care insurance;

(3) Literacy training and GED preparation;

(4) Computer training, from basic to advanced;

(5) College preparatory courses and information;

(6) Goal setting: working with residents to define their professional, educational, and economic goals;

(7) Mentoring;

(8) Job Training: oral and written communication skills; work ethic; interpersonal and teamwork skills; resume writing; interviewing techniques; creating job training; and placement programs with local employers and placement agencies; and post-employment follow-up to assist residents who are new to the workplace; and

(9) Supportive Services such as transportation, healthcare information and services including referrals to mental health providers, alcohol and other drug abuse treatment programs, childcare, parenting courses, and other services needed by residents.

3. Applicants may provide the following physical improvements:

a. Physical improvements must directly relate to providing space for NNC activities. Renovation, conversion, wiring, and repair costs may be essential parts of physical improvements. In addition, architectural, engineering, and related professional services required to prepare architectural plans or drawings, write-ups, specifications, or inspections may also be part of the cost components to implement physical improvements;

b. Modifications to create a space that is accessible to persons with disabilities is an eligible use of funds. Refer to Office of Management and Budget (OMB) Circular A-87, Cost Principles for state, local and Indian tribal governments. All renovations must meet appropriate accessibility requirements, including Section 504 requirements at 24 CFR 8, Architectural Barriers Act at 24 CFR 40, and the Americans with Disabilities Act. Compliance with the Uniform Federal Accessibility Standards shall be deemed to comply with the requirements of 24 CFR 8.21 with respect to buildings.

i. The renovation, conversion, or joining of vacant dwelling units in a PHA development to create appropriate space for the equipment needs and activities of a NNC (computers, printers, and office space) are eligible activities for physical improvement.

ii. The renovation or conversion of existing common areas in a PHA development to accommodate a NNC is eligible.

iii. If renovation, conversion, or repair is done off-site, the applicant must provide documentation that its procured developer or owner entity has control of the proposed property for at least 15 years. Control can be demonstrated through a lease agreement, ownership documentation, or other appropriate documentation.

4. Maintenance and insurance costs. This includes installing, training, and maintaining the hardware and software as well as insurance coverage for the space and equipment. Costs of computer hardware and software necessary to accommodate the needs of persons with disabilities are an eligible cost for this funding category.

5. Purchase of computers, printers, software, and other peripheral equipment.

6. Security and related costs. This includes space and minor refitting, locks, and other equipment for safeguarding the center.

7. Resident development and training courses. These courses may be taught through educational software and/or presented live. Programs should be designed to address job training, life-skills, educational needs of residents (youth and adults), and other interests/needs of residents as determined by an assessment of residents conducted by the applicant.

8. Distance Learning Equipment. Distance learning equipment (including the costs for video casting and purchase/lease/rental of distance learning equipment) is an eligible use of funds provided your proposal indicates that the center will be working in a virtual setting with a college, university, or other educational organization. If you operate more than one center, distance-learning equipment can be used to link one or more centers so that residents using the different centers can benefit from courses being offered at only one site.

9. Administrative costs. Administrative costs may include, but are not limited to, purchase of furniture, office equipment and supplies, salaries for resident employees hired as part of this grant program, quality assurance, local travel, and utilities. Administrative costs must adhere to OMB Circular A-87. Please use Grant Application Detailed Budget Worksheet, HUD-424-CBW, to itemize your administrative costs.

10. The grantee may not charge public housing and/or HOPE VI development residents and FSS participants for Neighborhood Networks services rendered. However, after one year from the date of grant agreement execution, the NNC may charge other organizations or individuals for services rendered, provided that: (1) The grantee forms an IRS approved nonprofit to run the NNC; and (2) timing of and amount of charged services do not interfere with the amount or scheduling of services to public housing/HOPE VI development residents.

B. Ineligible Activities. 1. Payment of wages and/or salaries to participants receiving supportive services and/or training programs;

2. Purchase or rental of land;

3. Purchase or rental of vehicles;

4. Cost of application preparation;

5. Charging for services to public housing/HOPE VI development residents and FSS participants; and

6. Incurring other costs that are not allowable under the HOPE VI NOFA grant award and are not stated as allowable under this NN NOFA.

C. Threshold Requirements. Match. HUD is required by the Quality Housing and Work Responsibility Act (Sec. 24(c)(1)(A), 42 U.S.C. 1437v(c)(1)(A)) to include the requirement for matching funds for all HOPE VI related grants. All applicants are required to have in place a 5 percent match in cash or in-kind donations. The match is a threshold requirement. Applicants who do not demonstrate the minimum 5 percent match will fail the threshold requirement and will not receive further consideration for funding. The match may include any funds or in-kind services that were included in the HOPE VI NOFA application, provided that such funds/services comply with the match requirements stated in this section. Match donations must be firmly committed. “Firmly committed” means that the amount of match resources and their dedication to Neighborhood Networks activities must be explicit, in writing, and signed by a person authorized to make the commitment. Letters of commitment or Memoranda of Understanding (MOU) must be on organization letterhead and signed by a person authorized to make the stated commitment whether it be in cash or in-kind services. The letters of commitment/MOUs must indicate the annual level and/or amount of commitment in dollars and indicate how the commitment will relate to the proposed program. The commitment must be in place at the time of award. The applicant may propose to use its own, non-public housing grant funds, e.g., Community Development Block Grant (CDBG), to meet the match requirement. You must accompany this letter with documentation on how the match relates to your Neighborhood Networks program. Applicant staff time is not an eligible cash or in-kind match. Applicants shall annotate the HUD-424-CB, Grant Application Detailed Budget, listing the sources and amount of each match. If the commitment letter/MOU for any match funds/in-kind services is not included in the application and provided before the NOFA due date, the related match will not be considered. This is not a technical deficiency and cannot be corrected during the corrections period.

D. Eligible Participants. More than 50 percent of program participants must be residents of public housing.

E. Resident Assessment. Applicants are required to assess residents' needs and interests so that program activities are designed to address their needs. This information may be limited to the requirements in the program summary.

F. Sustainability. Applicants shall submit a program summary with their application, required under Rating Factor 3, which shall indicate the level and type of expenditures over the grant term, contributions from partners, and efforts applicants will make to ensure the NNC will be sustainable once the grant term expires.

G. Partnering. Applicants should partner with local businesses, schools, libraries, banks, employment agencies, or other organizations, which will help applicants, deliver supportive services, and fulfill residents' needs. These organizations can provide additional expertise, volunteers, office supplies, training materials, software, equipment, and other resources.

H. Periodic Reporting: Grantees will be required to submit Neighborhood Networks information in the CSS portion of the HOPE VI Quarterly Progress Report. HUD will furnish information requirements to the grantees upon assignment of an OMB Paperwork Reduction Act number to the information collection.

I. Final Report. The grantees shall submit a final report, which will include a financial report and a narrative evaluating overall performance against its program summary and HOPE VI CSS Plan. Grantees shall use quantifiable data to measure performance against goals and objectives outlined in its application. The financial report shall contain a summary of all expenditures made from the beginning of the grant agreement to the end of the grant agreement and shall include any unexpended balances. The final narrative and financial report shall be due to HUD 90 days after the full expenditure of funds or when the Neighborhood Networks program activities are complete.

J. Final Audit. Grantees are required to obtain a complete final closeout audit of the grant's financial statements by a certified public accountant (CPA), in accordance with generally accepted government audit standards. A written report of the audit must be forwarded to HUD within 60 days of issuance. Grant recipients must comply with the requirements of 24 CFR 84 or 24 CFR 85 as stated in OMB Circulars A-110, A-87, and A-122, as applicable.

V. Definition of Terms

Community and Supportive Services are services that are described in Section XI of the HOPE VI NOFA.

Neighborhood Networks Centers (NNCs) are community centers or rooms where computer and network hardware and software are set up and training in a wide array of digital-related services is provided.

HOPE VI NOFA means the Notice of Funding Availability for Revitalization of Severely Distressed Public Housing HOPE VI Revitalization Grants; Fiscal Year 2002, as published in the Federal Register on July 31, 2002, page 49766 to 49791, Docket Number FR-4768-N-01.

Match. Means at least 5 percent of the grant amount is required as the grant match. See details in Section IV(C) of this NN NOFA.

Neighborhood Networks Coordinator (NNC Coordinator) is a person who is responsible for coordinating the activities proposed for this NN NOFA to ensure that their implementation will achieve the overall grant goals and objectives.

Nonprofit organization is an organization that is exempt from federal taxation. A nonprofit can be organized for the following purposes: charitable, religious, educational, scientific, and literary and others. In order to qualify, an organization must be a corporation, community chest, fund, or foundation. An individual or partnership will not qualify. To obtain nonprofit status, qualified organizations must file an application with the Internal Revenue Service (IRS) and receive designation as such by the IRS. For more information, go to http://www.irs.gov. Proposed subgrantees that are in the process of applying for nonprofit status, but have not yet received nonprofit designation from the IRS on the application due date, will not be considered nonprofit organizations.

Owner entity is the legal entity that holds title to real property that contains public housing units.

Person with disabilities means a person who:

1. Has a condition defined as a disability in section 223 of the Social Security Act;

2. Has a developmental disability as defined in section 102 of the Developmental Disabilities Assistance Bill of Rights Act; or

3. Is determined to have a physical, mental, or emotional impairment which:

a. Is expected to be of long-continued and indefinite duration;

b. Substantially impedes his or her ability to live independently; and

c. Is of such a nature that such ability could be improved by more suitable housing conditions.

4. The term “person with disabilities” may include persons who have acquired immunodeficiency syndrome (HIV/AIDS) or any conditions arising from the etiologic agent for AIDS. In addition, no individual shall be considered a person with disabilities, for purposes of eligibility for low-income housing, solely on the basis of any drug or alcohol dependence.

5. The definition provided above for persons with disabilities is the proper definition for determining program qualifications. However, the definition of a person with disabilities contained in section 504 of the Rehabilitation Act of 1973 and its implementing regulations must be used for purposes of reasonable accommodations.

Procured developer is a legal entity that has a contract or “Developer Agreement” with a Public Housing Agency (PHA) to finance, rehabilitate and/or construct housing units, and, sometimes, to provide community and supportive services for a HOPE VI grantee.

Project is the same as “low-income housing project” as defined in section 3(b)(1) of the United States Housing Act of 1937 (42 U.S.C. 1437 et. seq.) (1937 Act).

VI. Selection Process

A. Application Selection Process. Three levels of review will be conducted: (1) A screening to determine if you are eligible to apply for this funding category and whether your application submission is complete, on time, and meets threshold; (2) a technical review by an individual reviewer to rate your application based on the five rating factors provided in this section; and (3) a technical review by a review committee to ensure uniform rating treatment by the individual reviewers. HUD will select for grant award the highest ranked application first and continue down in ranking until funds are exhausted.

B. Response to Factors as Narrative. As explained in Section I.E., Application Format your responses to the rating factors constitute the narrative portion of the application. The rating factor responses should include information and references to the program summary that is required under Rating Factor 3 and other documentation in the application. The factors cover key personnel, target audience, services and activities, how the services/activities match the needs of the target audience, program evaluation, and financial controls. A narrative separate from the rating factor responses will not be reviewed. Repeating information is not necessary.

C. Factors for Award Used to Evaluate and Rate Neighborhood Networks Applications. The factors for rating and ranking applicants and maximum points for each factor are provided below. The maximum number of points available for this program is 50. In order to be awarded a grant under this NN NOFA, the applicant must score a minimum of 35 points. (Two extra EZ/EC bonus points were already included in the award of the HOPE VI NOFA and will not be included in this NN NOFA).

Rating Factor 1: Capacity of the Applicant and Relevant Organizational Staff (12 Points)

A. Description. This factor addresses whether the applicant has the organizational resources necessary to successfully implement the proposed activities within the grant period. In rating this factor, HUD will consider the extent to which the proposal demonstrates that the applicant will have qualified and experienced staff dedicated to administering the program.

B. Proposed Program Staffing. Staff Experience (4 Points).

1. The knowledge and experience of your proposed NNC Coordinator, staff, subcontractors, subgrantees, and other partners in planning and successfully managing programs similar to the Neighborhood Networks program for which funding is being requested. Experience will be judged in terms of recent, relevant, and successful experience of your team to undertake eligible program activities. In rating this factor, HUD will consider experience within the last 5 years to be recent; experience should relate specific activities and specific accomplishments.

2. Scoring: a. If your proposed team has experience working in both computer-related and supportive service programs, you may receive up to 4 points.

b. If your team has experience in only one area, you may receive up to a maximum of 2 points for this subfactor.

c. If your staff has experience in neither area, you will receive a score of 0 points for this subfactor.

C. Staff Capacity (4 Points). 1. You will be evaluated based on whether you, your subcontractors, and partners have sufficient personnel, or will be able to quickly access enough qualified experts or professionals, to deliver the proposed activities in a timely and effective fashion.

2. Scoring:

a. If you have staff and partners in place to begin the proposed work immediately, you will receive up to a maximum of 4 points;

b. If you have staff and partners in place to begin the proposed work three months after award, you will receive up to a maximum of 2 points;

c. If you have staff and partners in place to begin the proposed work six months after award, you will receive up to a maximum of 1 point; and

d. If you will not have the staff and partners in place within six months, you will receive 0 points.

D. Program Administration and Fiscal Management. (4 Points). 1. Describe how you will manage the program; how HUD can be sure that there is program and financial accountability; and describe staff/team members' roles and responsibilities. You must provide the following:

a. A complete description of your fiscal management structure, including fiscal controls you have in place;

b. A list of any findings (HUD Inspector General, management review, fiscal, etc.), material weaknesses and what you have done to address them.

2. Scoring:

a. If you show fiscal management controls that are adequate to manage a grant from this NN NOFA, and you do not have any outstanding findings, you will receive up to 4 points;

b. If you show a program management structure and fiscal management controls that are adequate to manage a grant from this NN NOFA, but have outstanding findings (or do not address findings), you will receive up to 2 points; and

c. If you do not describe your program management structure and fiscal management controls and show that they are adequate, you will receive 0 points.

Rating Factor 2: Need/Extent of the Problem (8 Points)

A. Description. 1. This factor addresses the extent to which there is a need for funding your proposed program and your indication of the importance of meeting the need in the target area. In responding to this factor, you will be evaluated on the extent to which you describe and document the level of need for your proposed activities and the urgency in meeting the need.

2. Contrast the number of low-income residents in the area around the existing or proposed NNC to availability of no-cost Neighborhood Networks type training currently in that area. State the sources of this information. You should document needs as they apply to the HOPE VI development's locally defined neighborhood.

3. In responding to this factor, you should include:

a. Public Housing Residents and Low-Income Families. The applicant should reference relevant pages in the program summary.

b. Local Training Program Information. Information on the lack of Neighborhood Networks related training programs currently available and easily accessible to public housing residents. List no-cost training that is available through either the PHA or other local or state community organizations.

B. Scoring: 1. If there are no computer and Internet facilities available in the HOPE VI development's locally defined neighborhood other than those located at public schools, you may receive up to 8 points;

2. If there is an insufficient amount of computer and Internet facilities available in the HOPE VI development's locally defined neighborhood, including library and public school availability, you may receive up to 4 points, depending upon the number of residents in need; and

3. If there are sufficient computer and Internet facilities available in the HOPE VI development's locally defined neighborhood to fulfill the needs of your Public Housing residents, you will receive 0 points.

Rating Factor 3: Soundness of Approach (15 Points)

A. Description. 1. This factor addresses both the quality and cost-effectiveness of your proposed program summary. Your factor response, including your program summary, must indicate a clear relationship between your proposed activities, the targeted population's needs, and the purpose of the program funding. Your program summary should include, at a minimum, the following:

a. A description of the NNC(s) including the current or planned name and address of the NNC(s) and the name and phone number of the current or planned NNC managers (if there is only one NNC, the name of the NNC Coordinator);

b. The focus of each NNC, i.e., whether services will include:

i. Job skills training/employment;

ii. Introduction to/familiarization with computers;

iii. Internet access and access to local services;

iv. Basic adult education, literacy, ESL, GED;

v. Youth education;

vi. Senior services;

vii. Continuing education; and,

viii. Recreation.

c. PHA demographics, including:

i. Total number of conventional family public housing units;

ii. Total number of residents;

iii. Number of adults 21-61 years old;

iv. Number of adults 62 and older;

v. Number of children 0-6 years old;

vi. Number of children 7-13 years old;

vii. Number of children 14-17 years old;

viii. Number of young adults 18-20 years old;

ix. Number with ESL (English as Second Language) needs;

x. Percentage of single parent households; and

xi. Percent that are public assistance recipients.

d. Your objectives, including:

i. The number of participants you will provide with access to technology and the Internet per year, broken out by age of the resident, on a yearly basis;

ii. The number of participants you will provide with an opportunity to be involved in the planning, implementation, and daily maintenance of the NNC on a yearly basis;

iii. The number of adult resident participants per year to which you will expand community based job training;

iv. The number of participants per year whose training will prepare them for opportunities to telecommute;

v. The number of participants per year to which you will teach Basic Skills and Increase Adult Education Level, including literacy, ESL, GED courses;

vi. The number of school aged children per year for which you will improve academic achievement to the appropriate grade level each year by attempting to raise and maintain the educational level on standardized tests;

vii. The number of useful ongoing linkages to local community groups that you will create each year. Include the names and functions of the groups. You may combine this list with your list of leveraged in-kind services and funds in Rating Factor 4, provided a reference is made thereto; and

viii. The number of years it will take to create a self-sustaining NNC. Include evidence of financial planning to produce this result.

e. Milestones for setting up or expanding the NNC(s), including:

i. Construction start and finish;

ii. Equipment procurement start and finish;

iii. Staffing completion; and

iv. Beginning date of classes and training.

f. List and cost of hardware to be procured, including hardware that is accessible to persons with disabilities;

g. The types and amounts of staff to be hired, e.g., the cost and number of hours for the Neighborhood Networks Coordinator, other paid staff (with their titles), volunteer staff, leverage staff; and

h. Schedule for the Center, including days/hours open, classes, and open lab/free time on the computers.

In rating this factor HUD will consider:

B. Specific Services and/or Activities (12 points). 1. Description. Your rating factor response and program summary must describe the specific services and activities you plan to offer, who will benefit from them and how they will benefit from them. Refer to the program summary and tie specific services/activities to specific sub-groups, including persons with disabilities, within your public housing resident and low-income communities. Your rating factor response must indicate the types of activities and training programs you will offer which can help residents successfully transition from welfare to work and/or earn higher wages.

2. Scoring: a. If you show a variety of courses that fulfill the needs of your public housing residents and participant subgroups in the following areas, you will receive up to 12 points.

i. Computer and Internet knowledge as it relates to obtaining Community and Supportive Services;

ii. Teaching participants how to improve their job hunting and employment skills, including obtaining specific, generally accepted training certifications; and

iii. Providing training courses that build upon one another with the goal of teaching your public housing residents to independently use computers and the Internet to provide themselves with community, supportive, and self-sufficiency services.

b. If you show a variety of courses that fulfill the needs of your public housing residents and participant subgroups in the following areas, you will receive up to 8 points.

i. Teaching participants how to improve their job hunting and employment skills, including obtaining specific, generally accepted training certifications; and

ii. Providing training courses that build upon one another with the goal of teaching your public housing residents to independently use computers and the Internet to provide themselves with community, supportive, and self-sufficiency services.

c. If you show a variety of courses that fulfill the needs of your public housing residents and participant subgroups in the following areas, you will receive up to 4 points.

i. Teaching participants how to improve their job hunting and employment skills, including obtaining specific, generally accepted training certifications.

ii. General computer and Internet knowledge as it relates to obtaining Community and Supportive Services.

d. If you do not show that the courses you offer fulfill the needs of your public housing residents, you will receive 0 points.

C. Feasibility (3 points). 1. Description. This factor examines whether your overall application is logical, feasible, and likely to achieve its stated purpose during the term of the grant. You will be evaluated based on whether your application shows that you can communicate well with your public housing residents regarding computers and the Internet, whether you are using a logical approach in planning and implementing the program and whether the amount of funds requested is commensurate with the level of effort necessary to accomplish your goals and anticipated results.

2. Scoring: a. If your application shows financial feasibility, the ability to work with the target group of residents and low-income families, a logical plan to provide training courses, and that the amount of requested funds is commensurate with the level of effort necessary to accomplish your goals and anticipated results, you will receive up to 3 points.

b. If your application shows financial feasibility and the ability to work with the target group of residents and low-income families, you will receive up to 2 points.

c. If your application shows only financial feasibility, you will receive up to 1 point.

d. If your application as a whole is not logical and shows poor planning, you will receive 0 points.

Rating Factor 4: Leveraging Resources (10 Points)

A. Description. This factor addresses your ability to secure community resources that can be combined with HUD's grant resources to achieve program purposes. In rating this factor, HUD will look at the extent to which you partner, coordinate, and leverage your services with other organizations serving the same or similar populations.

B. Leverage Description and Requirements. 1. Leverage may be cash or other resources/services that can be donated and may include: in-kind services, contributions, or administrative costs provided to the applicant; funds from federal sources (not including public housing/HOPE VI funds) as allowed by statute, including for example CDBG; funds from any state or local government sources; and funds from private contributions.

2. Leverage funds and in-kind services (“donations”) must be firmly committed. “Firmly committed” means that the amount of leverage resources and their dedication to Neighborhood Networks activities must be explicit, in writing, and signed by a person authorized to make the commitment. Letters of commitment or Memoranda of Understanding (MOU) must be on organization letterhead and signed by a person authorized to make the stated commitment whether it be in cash or in-kind services. The letters of commitment/MOUs must indicate the annual level and/or amount of commitment in dollars and indicate how the commitment will relate to the proposed Neighborhood Networks program.

3. Commitment documents must be submitted to HUD with the NN NOFA application. If a commitment document is not included in the application, the donation will not be counted toward this factor. Missing commitment documents are not considered “technical deficiencies” and cannot be submitted after the due date.

4. Donations that were included in your HOPE VI NOFA application that specifically apply to the Neighborhood Networks program described in your HOPE VI NOFA may also be included in your NN NOFA application. However, in order to be counted toward this rating factor, the related commitment document must fulfill the “firmly committed” requirements stated above.

5. Public housing funds of any kind are not an eligible donation. Applicant staff time is not an eligible donation. Applicants shall annotate the HUD-424-CB to list the sources and amount of each donation.

6. Points for this factor will be awarded based on the documented evidence of partnerships and firm commitments and the ratio of requested funding to the total proposed grant budget.

7. Matching funds will be counted toward your leverage amount.

C. Points will be assigned based on the following scale:

Leverage as percent of grant amount | Points awarded
Up to 50 percent | 5 points
50 percent or more | 10 points

Rating Factor 5: Achieving Results and Evaluation Methods (5 Points)

A. Description. 1. Under this rating factor, applicants must demonstrate how they propose to measure their success and outcomes. This rating factor requires that the applicant identify goals, interim and final program outcomes, and their time frames. Examples of outcomes are: increasing the homeownership rates among participants, increasing participants' financial stability (e.g., increasing assets of a household through savings), or increasing employment stability (e.g., whether persons assisted obtain or retain employment for one or two years during participation).

2. Performance indicators should be objectively quantifiable and measure actual achievements against anticipated achievements. Your narrative should identify what you are going to measure, how you are going to measure it, and the steps you have in place to adjust your plans if outcomes are not met within established time frames.

B. Scoring:

1. If you show interim and final measurable outcomes, with time frames, for each of several participant sub-groups, and show plans for adjusting your program, you will receive up to 5 points.

2. If you show interim and final measurable outcomes, with time frames, but without plans for adjusting your program, you will receive up to 2 points.

3. If you do not show periodic and final measurable outcomes, with time frames, you will receive 0 points.

VII. Additional Requirements

A. Compliance with Fair Housing and Civil Rights Laws. All applicants must comply with all fair housing and civil rights laws, statutes, regulations, and executive orders as enumerated in 24 CFR 5.105(a). If an applicant: (a) Has been charged with a systemic violation of the Fair Housing Act by the Secretary alleging ongoing discrimination; (b) is the defendant in a Fair Housing Act lawsuit filed by the Department of Justice alleging an ongoing pattern or practice of discrimination; or (c) has received a letter of noncompliance findings under Title VI of the Civil Rights Act of 1964, section 504 of the Rehabilitation Act of 1973, or section 109 of the Housing and Community Development Act of 1974, the applicant's application will not be evaluated under this NOFA if, prior to the application deadline, the charge, lawsuit, or letter of findings has not been resolved to the satisfaction of the Department. HUD's decision regarding whether a charge, lawsuit, or letter of findings has been satisfactorily resolved will be based upon whether appropriate actions have been taken to address allegations of ongoing discrimination in the policies or practices involved in the charge, lawsuit, or letter of findings. Examples of actions that may be taken prior to the application deadline to resolve the charge, lawsuit, or letter of findings, include, but are not limited to a:

1. Voluntary compliance agreement signed by all parties in response to the letter of findings;

2. HUD-approved conciliation agreement signed by all parties; or

3. Consent order or consent decree.

B. Additional Nondiscrimination Requirements. You, the applicant, and your subrecipients must comply with the Americans with Disabilities Act of 1990 (42 U.S.C. 12101 et seq.) and Title IX of the Education Amendments Act of 1972 (20 U.S.C. 1681 et seq.).

C. Conducting Business in Accordance with Core Values and Ethical Standards. Entities subject to 24 CFR parts 84 and 85 (most non-profit organizations and state and local governments or government agencies or instrumentalities who receive federal awards of financial assistance) are required to develop and maintain a written code of conduct (see sections 84.42 and 85.36(b)(3)). Consistent with regulations governing specific programs, your code of conduct must: prohibit real and apparent conflicts of interest that may arise among officers, employees, or agents; prohibit the solicitation and acceptance of gifts or gratuities by your officers, employees, and agents for their personal benefit in excess of minimal value; and outline administrative and disciplinary actions available to remedy violations of such standards. If awarded assistance under this NOFA, you will be required, prior to entering into a grant agreement with HUD, to submit a copy of your code of conduct and describe the methods you will use to ensure that all officers, employees, and agents of your organization are aware of your code of conduct. Failure to meet the requirement for a code of conduct will prohibit you from receiving an award of funds from HUD.

D. Ensuring the Participation of Disadvantaged Firms. The Department is committed to ensuring that small businesses, small disadvantaged businesses, minority firms, women's business enterprises, and labor surplus area firms participate fully in HUD's direct contracting and in contracting opportunities generated by HUD grant funds. Too often, these businesses still experience difficulty accessing information and successfully bidding on federal contracts. HUD regulations at 24 CFR 85.36(e) require recipients of assistance (grantees and subgrantees) to take all necessary affirmative steps in contracting for purchase of goods or services to assure that these disadvantaged firms are used when possible. Affirmative steps include:

1. Placing disadvantaged firms on solicitation lists;

2. Assuring that disadvantaged firms are solicited whenever they are potential sources;

3. Dividing total requirements, when economically feasible, into smaller tasks or quantities to permit maximum participation by disadvantaged firms;

4. Establishing delivery schedules, where the requirement permits, which encourage participation by disadvantaged firms;

5. Using the services and assistance of the Small Business Administration and the Minority Business Development Agency of the Department of Commerce; and

6. Requiring the prime contractor, if subcontracts are to be let, to take the affirmative steps listed in sections (a) through (e) above.

E. Increasing the Participation of Faith-Based and other Community-Based Organizations in HUD Program Implementation. HUD believes that grassroots organizations; e.g., civic organizations, congregations, and other community-based and faith-based organizations, have not been effectively utilized. These grassroots organizations have a strong history of providing vital community services. HUD encourages applicants to include grassroots, faith-based, and other community-based organizations in contracting activities generated by HUD grant funds.

F. Economic Opportunities for Low- and Very Low-Income Persons (Section 3). You must comply with Section 3 of the Housing and Urban Development Act of 1968 (“Section 3”) 12 U.S.C. 1701u (Economic Opportunities for Low- and Very Low-Income Persons in Connection with Assisted Projects); and the HUD regulations at 24 CFR part 135, including the reporting requirements at subpart E. Section 3 requires recipients to ensure that, to the greatest extent feasible, training, employment, and other economic opportunities will be directed to low- and very low-income persons, particularly those who are recipients of government assistance for housing, and business concerns which provide economic opportunities to low- and very low-income persons.

G. Accessible Technology. The Rehabilitation Act Amendments of 1998 (the Act) apply to all electronic information technology (EIT) used by a recipient for transmitting, receiving, using, or storing information to carry out the responsibilities of any federal funds awarded. The Act's coverage includes, but is not limited to, computers (hardware, software, word-processing, e-mail, and Web pages), facsimile machines, copiers, and telephones. When developing, procuring, maintaining, or using EIT, funding recipients must ensure that the EIT allows employees with disabilities and members of the public with disabilities to have access to and use of information and data that is comparable to the access and use of information and data by employees and members of the public who do not have disabilities. If these standards impose a hardship on a funding recipient, a recipient may provide an alternative means to allow the individual to use the information and data. However, no recipient will be required to provide information services to a person with disabilities at any location other than the location at which the information services is generally provided.

VIII. Application Content and Format

A. Application Format. 1. The only narrative portion of the application is the applicant's response to the rating factors, including the program summary. To ensure proper credit for information applicable to each rating factor, the applicant should include page-number references to the program summary, forms, and supporting documentation.

2. The applicant's rating factor response should be as descriptive as possible, ensuring that every requested item is addressed. Applicants should make sure to include all requested information, according to the instructions of this NN NOFA. This will help ensure a fair and accurate review of your application. Although information from all parts of the application will be taken into account in rating the various factors, if supporting information cannot be found by the reviewer, it cannot be used to support a factor's rating.

3. The Grant Application Detailed Budget (HUD-424-CB) contains information that will add to your application. To assist you in filling out the form, HUD has available for your voluntary use a Grant Application Detailed Budget Worksheet (HUD-424-CBW) and Grant Application Detailed Budget Worksheet Instructions (HUD-424-CBWI). They can be downloaded from HUD's Internet forms service, http://www.hudclips.org.

4. The application is to be set up as follows:

TAB 1: Response for Rating Factor 1:

• Narrative

• Document References

TAB 2: Response for Rating Factor 2:

• Narrative

• Document References

TAB 3: Response for Rating Factor 3:

• Narrative

• Program Summary and Document References

TAB 4: Response for Rating Factor 4:

• Document References

TAB 5: Response for Rating Factor 5:

• Narrative

• Document References

TAB 6: Leverage Commitment Documents:

• Letters/MOUs from Partners attesting to leverage donations

TAB 7: Forms Required by this NN NOFA:

• See Applicant Checklist for required forms

5. Package the application as securely and simply as possible.

6. Two-hole punch the pages at the top with a 2¾″ center. Do not use a three ring binder.

IX. Corrections to Deficient Applications

A. After the application due date, HUD may not, consistent with its regulations at 24 CFR part 4, subpart B, consider any unsolicited information, you the applicant, may want to provide. HUD may contact you to clarify an item in your application or to correct technical deficiencies. HUD may not seek clarification of items or responses that improve the substantive quality of your response to the rating factors. In order not to unreasonably exclude applications from being rated and ranked, HUD may contact applicants to ensure proper completion of the application and will do so on a uniform basis for all applicants. Examples of curable (correctable) technical deficiencies include failure to submit the proper certifications, or failure to submit an application that contains a signature by an authorized official. Except on the Application for Federal Assistance (HUD-424), which requires an original signature, photocopied signatures are acceptable. In each case, HUD will notify you in writing of a technical deficiency. HUD will notify applicants by facsimile and will make a follow-up phone call to the PHA contact listed on the Acknowledgment of Application Receipt (HUD-2993). Through this phone call, HUD will ensure that appropriate PHA staff is made aware of the facsimile notice. It is very important that the fax number listed on the Application Receipt is correct so that it gets to the right person on your staff. Clarifications or corrections of technical deficiencies in accordance with the information requested by HUD must be submitted within 48 hours of the date and time you receive HUD notification. (If the due date falls on a Saturday, Sunday, or Federal holiday, your correction must be received by HUD on the next day that is not a Saturday, Sunday, or Federal holiday.) The determination of when you received the notice of deficiency will be based on the confirmation of the facsimile transmission. If the deficiency is not corrected within this time period, HUD will reject the application as incomplete, and it will not be considered for funding.

B. Unacceptable Applications. After the 48 hour technical deficiency correction period, HUD will disapprove all applications that it determines are not acceptable for processing. HUD's notification of rejection will state the basis for the decision.

X. Findings and Certifications

A. Paperwork Reduction Act Statement. The information collection requirements contained in this NOFA have been approved by the Office of Management and Budget (OMB) in accordance with the Paperwork Reduction Act of 1995 (44 U.S.C. 3501-3510), and the assigned OMB control number is 2577-0208. An agency may not conduct or sponsor, and a person is not required to respond to, a collection of information unless the collection displays a valid control number.

B. Environmental Impact. 1. A Finding of No Significant Impact with respect to the environment has been made in accordance with HUD regulations at 24 CFR part 50 that implement section 102(2)(C) of the National Environmental Policy Act of 1969 (42 U.S.C. 4332). The Finding of No Significant Impact is available for public inspection during regular business hours in the Office of the General Counsel, Regulations Division, Room 10276, U.S. Department of Housing and Urban Development, 451 Seventh Street, SW., Washington, DC 20410-0500.

2. Environmental Review. a. If an environmental review of the site has not been conducted, the responsible entity, as defined in 24 CFR 58.2(a)(7), must assume the environmental review responsibilities for projects being funded by this Neighborhood Networks NOFA. If you object to the responsible entity conducting the environmental review, on the basis of performance, timing, or compatibility of objectives, HUD will review the facts and determine who will perform the environmental review. At any time, HUD may reject the use of a responsible entity to conduct the environmental review in a particular case on the basis of performance, timing, or compatibility of objectives, or in accordance with 24 CFR 58.77(d)(1). If a responsible entity objects to performing an environmental review, or if HUD determines that the responsible entity should not perform the environmental review, HUD may designate another responsible entity to conduct the review or may itself conduct the environmental review in accordance with the provisions of 24 CFR part 50. You must provide any documentation to the responsible entity (or HUD, where applicable) that is needed to perform the environmental review.

b. If you are selected for funding, you must have a Phase I environmental site assessment completed in accordance with the American Society for Testing and Material (ASTM) Standards E 1527-97, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required.

c. You may not undertake any actions with respect to the project, that are choice-limiting or could have environmentally adverse effects, including demolishing, acquiring, rehabilitating, converting, leasing, repairing, or constructing property proposed to be assisted under this NOFA, and you may not commit or expend HUD or local funds for these activities, until HUD has approved a Request for Release of Funds (RROF) following a responsible entity's environmental review under 24 CFR part 58, or until HUD has completed an environmental review and given approval for the action under 24 CFR part 50. The costs of environmental reviews and hazard remediation are eligible costs under the HOPE VI Program.

3. Flood Insurance. In accordance with the Flood Disaster Protection Act of 1973 (42 U.S.C. 4001-4128), your application may not propose to provide financial assistance for acquisition or construction (including rehabilitation) of properties located in an area identified by the Federal Emergency Management Agency (FEMA) as having special flood hazards, unless:

a. The community in which the area is situated is participating in the National Flood Insurance program (see 44 CFR parts 59 through 79), or less than one year has passed since FEMA notification regarding such hazards; and

b. Where the community is participating in the National Flood Insurance Program, flood insurance is obtained as a condition of execution of a Grant Agreement and approval of any subsequent demolition or disposition application.

4. Coastal Barrier Resources Act. In accordance with the Coastal Barrier Resources Act (16 U.S.C. 3501), your application may not target properties in the Coastal Barrier Resources System.

C. Catalog of Federal Domestic Assistance Numbers. The Federal Domestic Assistance number for this program is 14.866.

D. Federalism Impact. Executive Order 13132 (captioned “Federalism”) prohibits, to the extent practicable and permitted by law, an agency from promulgating a regulation that has Federalism implications and either imposes substantial direct compliance costs on state and local governments and is not required by statute, or preempts state law, unless the relevant requirements of section 6 of the Executive Order are met. None of the provisions in this NOFA will have Federalism implications, and they will not impose substantial direct compliance costs on state and local governments or preempt state law within the meaning of the Executive Order. As a result, the notice is not subject to review under the Order.

E. Accountability in the Provision of HUD Assistance. Section 102 of the Department of Housing and Urban Development Reform Act of 1989 (HUD Reform Act) and the regulations in 24 CFR part 4, subpart A contain a number of provisions that are designed to ensure greater accountability and integrity in the provision of certain types of assistance administered by HUD. On January 14, 1992, (57 FR 1942), HUD published a notice that also provides information on the implementation of section 102. HUD will comply with the documentation, public access, and disclosure requirements of section 102 with regard to the assistance awarded under this NOFA, as follows:

1. Documentation and public access requirements. HUD will ensure that documentation and other information regarding each application submitted pursuant to this NOFA are sufficient to indicate the basis upon which assistance was provided or denied. This material, including any letters of support, will be made available for public inspection for a period beginning not less than 30 days after the award of the assistance. Material will be made available in accordance with the Freedom of Information Act (5 U.S.C. 552) and HUD's implementing regulations at 24 CFR part 15. In addition, HUD will include the recipients of assistance pursuant to this NOFA in its Federal Register notice of all recipients of HUD assistance awarded on a competitive basis.

2. Disclosures. HUD will make available for public inspection all applications and related documentation, including letters of support, for 5 years beginning not less than 30 days following the award or allocation. All reports, both applicant disclosures and updates, will be made available in accordance with the Freedom of Information Act (5 U.S.C. 552) and HUD's implementing regulations at 24 CFR part 15.

3. Applicant Debriefing. Beginning not less than 30 days after the awards for assistance are announced in the above mentioned Federal Register notice, and for not longer than 120 days after awards for assistance are announced, HUD will provide a debriefing to any applicant requesting a debriefing on their application. All requests for debriefings must be made in writing and submitted to the Grants Management Center at the address indicated in Section I of this NOFA under the paragraph entitled “Address for Submitting Applications.”

F. Section 103 HUD Reform Act. HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact the HUD Ethics Law Division at (202) 708-3815. (This is not a toll-free number.) Persons with hearing or speech challenges may access this telephone number via text telephone (TTY) by calling the toll-free Federal Information Relay Service at (800) 877-8339. For HUD employees who have specific program questions, such as whether particular subject matter can be discussed with persons outside HUD, the employee should contact the appropriate Field Office Counsel.

G. Prohibition Against Lobbying Activities. Applicants for funding under this NOFA are subject to the provisions of section 319 of the Department of Interior and Related Agencies Appropriation Act for Fiscal Year 1991 (31 U.S.C. 1352) (the Byrd Amendment) and to the provisions of the Lobbying Disclosure Act of 1995 (Pub. L. 104-65, approved December 19, 1995).

The Byrd Amendment, which is implemented in regulations at 24 CFR part 87, prohibits applicants for federal contracts and grants from using appropriated funds to attempt to influence federal executive or legislative officers or employees in connection with obtaining such assistance, or with its extension, continuation, renewal, amendment, or modification. The Byrd Amendment applies to the funds that are the subject of this NOFA. Therefore, applicants must file a certification stating that they have not made and will not make any prohibited payments and, if any payments or agreement to make payments of non-appropriated funds for these purposes have been made, a form SF-LLL disclosing such payments must be submitted.

The Lobbying Disclosure Act of 1995 (Pub. L. 104-65), approved December 19, 1995, which repealed section 112 of the HUD Reform Act, requires all persons and entities who lobby covered executive or legislative branch officials to register with the Secretary of the Senate and the Clerk of the House of Representatives and file reports concerning their lobbying activities.

H. Lead-Based Paint. You must comply with lead-based paint testing and abatement requirements of the Lead-Based Paint Poisoning Prevention Act (42 U.S.C. 4821, et seq.). You must also comply with regulations at 24 CFR part 35, 24 CFR 965.701, and 24 CFR 968.110(k), as they may be amended or revised from time to time. Unless otherwise provided, you will be responsible for testing and abatement activities. The National Lead Information Hotline is 1-800-424-5323.

I. Labor Standards.

1. Revitalization Grant Labor Standards.

a. Davis-Bacon wage rates apply to development of any public housing rental units or homeownership units developed with HOPE VI grant funds and to demolition followed by construction on the site. Davis-Bacon rates are “prevailing” minimum wage rates set by the Secretary of Labor that all laborers and mechanics employed in the development, including rehabilitation other than nonroutine maintenance of a public housing project must be paid, as set forth in a wage determination that must be obtained by the PHA prior to bidding on each construction contract. The wage determination and provisions requiring payment of these wage rates must be included in the construction contract.

b. HUD-determined wage rates apply to:

i. Operation (including nonroutine maintenance) of revitalized housing; and

ii. Demolition followed only by filling in the site and establishing a lawn.

2. Exclusions. Under Section 12(b) of the 1937 Act, wage rate requirements do not apply to individuals who:

a. Perform services for which they volunteered;

b. Do not receive compensation for those services or are paid expenses, reasonable benefits, or a nominal fee for the services; and

c. Are not otherwise employed in the work involved (24 CFR part 70).

3. If other federal programs are used in connection with your HOPE VI activities, labor standards requirements apply to the extent required by the other federal programs on portions of the project that are not subject to Davis-Bacon rates under the 1937 Act.

J. Executive Order 13202, Preservation of Open Competition and Government Neutrality Toward Government Contractors' Labor Relations on Federal and Federally Funded Construction Contracts. Compliance with HUD regulations at 24 CFR 5.108 implementing Executive Order 13202 is a condition of receipt of assistance under this NOFA.

K. Procurement of Recovered Materials. State agencies and agencies of a political subdivision of the state, including PHAs, that are using assistance under this NOFA for procurement, and any person contracting with such an agency with respect to work performed under an assisted contract, must comply with the requirements of Section 6002 of the Solid Waste Disposal Act, as amended by the Resource Conservation and Recovery Act. In accordance with Section 6002, these agencies and persons must procure items designated in guidelines of the Environmental Protection Agency at 40 CFR part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.

XI. Authority

The funding authority for Neighborhood Networks for grantees which were awarded Fiscal Year 2002 HOPE VI Revitalization grants is provided by the Fiscal Year 2002 Department of Veterans Affairs and Housing and Urban Development and Independent Agencies Appropriations Act, 2002 (Pub. L 107-73, approved on November 26, 2001) (FY 2002 HUD Appropriations Act) under Section 24(d)(1)(G).

The program authority for the HOPE VI Program is section 24 of the 1937 Act (42 U.S.C. 1437v), as added by section 535 of the Quality Housing and Work Responsibility Act of 1998 (Pub. L. 105-276, 112 Stat. 2461, approved October 21, 1998).

Date: August 5, 2003.
Paula O. Blunt,
General Deputy, Assistant Secretary for Public and Indian Housing.

BILLING CODE 4210-33-P

[FR Doc. 03-20673 Filed 8-12-03; 8:45 am]

BILLING CODE 4210-33-P